FEDERAL RETIREMENT THRIFT INVESTMENT BOARD

Notice of Board Meeting

DATES: August 26, 2025 at 10:00 a.m. ET.

ADDRESSES: Telephonic. Dial-in (listen only) information: Number: 1-202-599-1426, Code: 820 586 67#; or via web: https://www.frtib.gov/.

FOR FURTHER INFORMATION CONTACT: James Kaplan, Director, Office of External Affairs, (202) 864-7150.

SUPPLEMENTARY INFORMATION:

Board Meeting Agenda

Open Session

1. Approval of the July 22, 2025, Board Meeting Minutes

2. Monthly Reports

(a) Participant Report

(b) Investment Report

(c) Legislative Report

3. Quarterly Reports

(d) Metrics

4. Internal Audit Update

5. FY 2025 FISMA Report

6. OCFO Office Presentation

Closed Session

7. Information covered under 5 U.S.C. 552b (c)(9)(B).

(Authority: 5 U.S.C. 552b (e)(1).)

Dated: August 11, 2025.
Dharmesh Vashee,
General Counsel, Federal Retirement Thrift Investment Board.

[FR Doc. 2025-15378 Filed 8-12-25; 8:45 am]

BILLING CODE P